DEPARTMENT OF ENERGY

Federal Energy Regulatory Commission

[Docket No. ER05-1065-000]

Entergy Services, Inc.; Supplemental Notice of Technical Conference

June 22, 2005.

As announced in the Notice of Technical Conference issued on June 17, 2005, a technical conference will be held on June 30 and July 1, 2005, in New Orleans, Louisiana, to discuss Entergy Services, Inc.'s (Entergy) proposal to establish an Independent Coordinator of Transmission (ICT). The conference will be held from 9 a.m. to 4:30 p.m. (c.s.t.) on June 30, and 9 a.m. to 12 p.m. on July 1. The conference will be held in the Egyptian Ballroom of the Hotel Monaco, 333 St. Charles Avenue, New Orleans, Louisiana, 70130. Conference Attendees should call 1-866-561-0010 for room reservations. A negotiated rate is available by mentioning ICT Technical Conference.

Entergy has also made a Dial-In Facility available for those who cannot attend in person. The Dial-In number is 1-888-685-8359 and the Participant Code is 706244.

To ensure adequate space both at the hotel and for the Dial-In Facility, please contact Geri Jackson at gjackso@entergy.com to confirm your in-person or call-in attendance.

A Draft Agenda prepared by Entergy is attached.

For more information about the conference, please contact Sanjeev Jagtiani at (202) 502-8886; sanjeev.jagtiani@ferc.gov or Christy Walsh at (202) 502-6523; christy.walsh@ferc.gov.

Magalie R. Salas,
Secretary.

Attachment

Agenda for Technical Conference

June 30

9-9:15 Introduction

9:15-10 ICT Agreement and Attachment S

10-10:45 Planning Protocol

10:45-11 Break

11-12 Transmission Service Protocol

12-12:45 Lunch (on your own)

12:45-1:45 Attachment V

1:45-2:45 Attachment T

2:45-3 Break

3-3:45 Attachment T, cont.

3:45-4:30 Attachment T—Analysis of previously incurred costs

July 1

9-10 Interconnection Protocol, Attachment U

10-10:15 Break

10:15-12 Follow-up questions and other issues

[FR Doc. E5-3478 Filed 7-1-05; 8:45 am]

BILLING CODE 6717-01-P